SURFACE TRANSPORTATION BOARD

60-Day Notice of Intent To Seek Extension of Approval and Merger of Collections: Statutory Licensing Authority

ACTION: Notice and Request for Comments.

AGENCY: Surface Transportation Board.

SUMMARY: As part of its continuing effort to reduce paperwork burdens, and as required by the Paperwork Reduction Act of 1995, 44 U.S.C. 3501-3521 (PRA), the Surface Transportation Board (STB or Board) gives notice that it is requesting from the Office of Management and Budget (OMB) an extension of approval for the information collections required from those seeking licensing authority under 49 U.S.C. 10901-03 and consolidation authority under sections 11323-26. The Board is also seeking approval to merge into this collection (OMB Control Number: 2140-0023) the collection of information about interchange commitments (OMB Control Number: 2140-0016).

DATES: Comments on this information collection should be submitted by March 27, 2017.

ADDRESSES: Direct all comments to Chris Oehrle, PRA Officer, Surface Transportation Board, 395 E Street SW., Washington, DC 20423-0001, or to PRA@stb.gov. When submitting comments, please refer to “Paperwork Reduction Act Comments, Statutory Licensing Authority.”

FOR FURTHER INFORMATION CONTACT: For further information regarding this collection, contact Michael Higgins, Deputy Director, Office of Public Assistance, Governmental Affairs, and Compliance at (202) 245-0284 or at michael.higgins@stb.gov. [Assistance for the hearing impaired is available through the Federal Information Relay Service (FIRS) at 1-800-877-8339.]

SUPPLEMENTARY INFORMATION: The Board currently collects information from those seeking licensing authority under OMB Control Number 2140-0023 and, under that collection, requires the disclosure of information about rail interchange commitments, which is also addressed under OMB Control Number 2140-0016. This request proposes to combine collections under Control Numbers 2140-0016 and 2140-0023, with 2140-0023 being the survivor. The Board will request to discontinue Control Number 2140-0016 upon OMB approval of the merger.

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection 1

Title: Statutory Licensing Authority.

OMB Control Number: 2140-0023.

STB Form Number: None.

Type of Review: Extension with change.

Respondents: Rail carriers and non-carriers seeking statutory licensing or consolidation authority or an exemption from filing an application for such authority.

Number of Respondents: 76.¹

¹ Approximately 40% of the filings are additional filings submitted by railroads that had already submitted filings during the time period.

Estimated Time per Response:

Estimated Hours per Response
Type of filing | Number of hours per response under 49 U.S.C. 10901-03 and 11323-26
Applications | 524
Petitions * | 58
Notices * | 19

Frequency: On occasion.

Number of Responses in FY 2015
Type of filing | Number of filings under 49 U.S.C. 10901-03 and 11323-26
Applications | 1
Petitions * | 12
Notices * | 113
* Under section 10502, petitions for exemption and notices of exemption are permitted in lieu of an application.

Total Burden Hours (annually including all respondents): 3,367 (sum total of estimated hours per response × number of responses for each type of filing).

Total “Non-hour Burden” Cost: None identified. Filings are submitted electronically to the Board.

Needs and Uses: Under the Interstate Commerce Act, as amended by the ICC Termination Act of 1995, Public Law No. 104-88, 109 Stat. 803 (1995), persons seeking to construct, acquire or operate a line of railroad and railroads seeking to abandon or to discontinue operations over a line of railroad or, in the case of two or more railroads, to consolidate their interests through merger or a common-control arrangement are required to file an application for prior approval and authority with the Board. See 49 U.S.C. 10901-03, 11323-26. Under 49 U.S.C. 10502, persons may seek an exemption from many of the application requirements of sections 10901-03 and 11323-26 by filing with the Board a petition for exemption or notice of exemption in lieu of an application. The collection by the Board of these applications, petitions, and notices (including collection of disclosures of rail interchange commitments under 49 CFR 1150.43(h)) enables the Board to meet its statutory duty to regulate the referenced rail transactions.

Description of Collection 2

Title: Disclosure of Rail Interchange Commitments.

OMB Control Number: 2140-0016.

STB Form Number: None.

Type of Review: Extension without change.

Respondents: Noncarriers and carriers seeking an exemption to acquire (through purchase or lease) or to operate a rail line, if the proposed transaction would create an interchange commitment.

Number of Respondents: 4.

Estimated Time per Response: 8 hours.

Frequency: On occasion.

Total Burden Hours (annually including all respondents): 32 hours.

Total “Non-hour Burden” Cost: None identified. Filings may be submitted electronically to the Board.

Needs and Uses: Under 49 U.S.C. 10502, noncarriers and carriers may seek an exemption from the prior approval requirements of sections 10901, 10902, and 11323 to acquire (through purchase or lease) or to operate a rail line. These transactions may create agreements with interchange commitments. If the interchange commitments limit the future interchange of traffic with third parties, then certain information must be disclosed to the Board about those commitments. 49 CFR 1150.43(h). The collection of this information facilitates the case-specific review of interchange commitments and enables the Board's monitoring of their usage generally.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: January 23, 2017.
Jeffrey Herzig,
Clearance Clerk.

[FR Doc. 2017-01797 Filed 1-25-17; 8:45 am]

BILLING CODE 4915-01-P